DEPARTMENT OF DEFENSE

Office of the Secretary of Defense, Meeting of the DOD Advisory Group on Electron Devices

AGENCY: Department of Defense, Advisory Group on Electron Devices.

ACTION: Notice.

SUMMARY: The DoD Advisory Group on Electron Devices (AGED) announces a closed session meeting and Special Technical Area Review (STAR) on High Operating Temperature Near BLIP Infrared Detectors.

DATES: The meeting will be held at 0830, Tuesday, September 28, 2004. The Special Technology Area Review will be held at 0830 on September 29 and 30.

ADDRESSES: The meeting will be held at Palisades Institute for Research Services, 241 18th Street, Crystal Square 4, Suite 500, Arlington, VA 22202.

FOR FURTHER INFORMATION CONTACT: The Point of Contact for the meeting is Mr. Eric Carr, AGED Secretariat, 241 18th Street, Crystal Square Four, Suite 500, Arlington, Virginia 22202. The Point of Contact for the STAR is Ms. Elise Rabin, AGED Secretariat, 241 18th Street, Crystal Square Four, Suite 500, Arlington, Virginia 22202.

SUPPLEMENTARY INFORMATION: The mission of the Advisory Group is to provide advice to the Under Secretary of Defense for Acquisition, Technology and Logistics to the Director of Defense Research and Engineering (DDR&E), and through the DDR&E to the Director, Defense Advanced Research Projects Agency and the Military Departments in planning and managing an effective and economical research and development program in the area of electron devices.

The AGED meeting will be limited to review of research and development programs which the Military Departments propose to initiate with industry, universities or in their laboratories. The agenda for this meeting will include programs on microwave technology, microelectronics, electro-optics, and electronics materials.

In accordance with section 10(d) of Pub. L. No. 92-463, as amended, (5 U.S.C. App. 10(d)), it has been determined that this Advisory Group meeting concerns matters listed in 5 U.S.C. 552b(c)(1), and that accordingly, this meeting will be closed to the public.

Dated: September 1, 2004.
L.M. Bynum,
Alternate, OSD Federal Register Liaison Officer, Department of Defense.

[FR Doc. 04-20277 Filed 9-3-04; 8:45 am]

BILLING CODE 5001-06-M